DEPARTMENT OF AGRICULTURE

Agricultural Marketing Service

[Docket Number: AMS-ST-07-0129; ST-07-03]

Plant Variety Protection Board; Open Meeting

AGENCY: Agricultural Marketing Service, USDA.

ACTION: Notice of meeting.

SUMMARY: This notice sets forth the schedule and proposed agenda of a forthcoming meeting of the Plant Variety Protection Board.

DATES: November 14-15, 2007, 8:30 a.m. to 5 p.m., open to the public.

ADDRESSES: The meeting will be held in the United States Department of Agriculture, National Agricultural Library, 10301 Baltimore Blvd., Beltsville, Maryland.

FOR FURTHER INFORMATION CONTACT: Mrs. Janice M. Strachan, Plant Variety Protection Office, Science and Technology Programs, Agricultural Marketing Service, United States Department of Agriculture, Telephone number (301) 504-5518, fax (301) 504-5291, or e-mail PVPOmail@usda.gov.

SUPPLEMENTARY INFORMATION: Pursuant to the provisions of section 10(a) of the Federal Advisory Committee Act, (U.S.C. App.2) this notice is given regarding a Plant Variety Protection (PVP) Board meeting. The board is constituted under section 7 of the PVP Act (7 U.S.C. 2327). The proposed agenda for the meeting will include discussions of: (1) The accomplishments of the PVP Office, (2) The financial status of the PVP Office, (3) PVP Office information technology infrastructure, (4) Discussion of current program operations and long term strategic plan, and (5) Other related topics. Upon entering the National Agricultural Library Building, visitors should inform security personnel that they are attending the PVP Board Meeting. Identification will be required to be admitted to the building. Security personnel will direct visitors to the registration table located outside of Room 1400. Registration upon arrival is necessary for all participants.

If you require accommodations, such as sign language interpreter, please contact the person listed under FOR FURTHER INFORMATION CONTACT. Minutes of the meeting will be available for public review 30 days following the meeting at the address listed under FOR FURTHER INFORMATION CONTACT. The minutes will also be posted on the Internet Web site http://www.ams.usda.gov/science/PVPO/PVPindex.htm.

Dated: November 1, 2007.
Lloyd C. Day,
Administrator, Agricultural Marketing Service.

[FR Doc. E7-21831 Filed 11-6-07; 8:45 am]

BILLING CODE 3410-02-P